DEPARTMENT OF ENERGY

Federal Energy Regulatory Commission

Combined Notice of Filings #2

Take notice that the Commission received the following electric rate filings:

Docket Numbers: ER11-4363-003.

Applicants: Osage Wind, LLC.

Description: Notice of Non-Material Change in Status of Osage Wind, LLC.

Filed Date: 10/16/14.

Accession Number: 20141016-5121.

Comments Due: 5 p.m. ET 11/6/14.

Docket Numbers: ER14-552-002.

Applicants: New York Independent System Operator, Inc.

Description: Compliance filing per 35: Compliance—Notify of activation of CTS with PJM and designate CTS Proxy Buses to be effective 11/4/2014.

Filed Date: 10/16/14.

Accession Number: 20141016-5111.

Comments Due: 5 p.m. ET 11/6/14.

Docket Numbers: ER15-117-000.

Applicants: ISO New England Inc.

Description: Compliance filing per 35: Compliance Filing on EL14-99 to be effective 10/17/2014.

Filed Date: 10/16/14.

Accession Number: 20141016-5130.

Comments Due: 5 p.m. ET 11/6/14.

Docket Numbers: ER15-118-000.

Applicants: Morris Cogeneration, LLC.

Description: Compliance filing per 35: Amendment to be effective 10/17/2014.

Filed Date: 10/16/14.

Accession Number: 20141016-5131.

Comments Due: 5 p.m. ET 11/6/14.

Docket Numbers: ER15-119-000.

Applicants: Midcontinent Independent System Operator, Inc.

Description: § 205(d) rate filing per 35.13(a)(2)(iii): 2014-10-16_SA 2219 ATC-METC Transmission Interconnection Agreement to be effective 7/1/2010.

Filed Date: 10/16/14.

Accession Number: 20141016-5133.

Comments Due: 5 p.m. ET 11/6/14.

Docket Numbers: ER15-120-000.

Applicants: Alabama Power Company.

Description: Tariff Withdrawal per 35.15: GTC NITSA Termination Filing to be effective 1/1/2015.

Filed Date: 10/16/14.

Accession Number: 20141016-5135.

Comments Due: 5 p.m. ET 11/6/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 16, 2014.
Nathaniel J. Davis, Sr.,
Deputy Secretary.

[FR Doc. 2014-25254 Filed 10-22-14; 8:45 am]

BILLING CODE 6717-01-P